DEPARTMENT OF TRANSPORTATION

Federal Aviation Administration

14 CFR Part 39

[Docket No. FAA-2009-0292; Directorate Identifier 2008-NM-011-AD; Amendment 39-16011; AD 2009-18-15]

RIN 2120-AA64

Airworthiness Directives; Airbus Model A300, A310, and A300-600 Series Airplanes

AGENCY: Federal Aviation Administration (FAA), Department of Transportation (DOT).

ACTION: Final rule.

SUMMARY: The FAA is superseding an existing airworthiness directive (AD), which applies to certain Airbus Model A300 and A310 series airplanes. That AD currently requires replacement of the nose landing gear drag strut upper attachment pin. This new AD requires revising the Airworthiness Limitations section (ALS) of the Instructions for Continued Airworthiness (ICA) to require additional life limits and/or replacements for certain main landing gear and nose landing gear components, and also expands the applicability. This AD results from revisions to the ALS of the ICA to include new or more restrictive life limits and/or replacements. We are issuing this AD to ensure the continued structural integrity of these airplanes.

DATES: This AD becomes effective October 27, 2009.

The Director of the Federal Register approved the incorporation by reference of certain publications listed in the AD as of October 27, 2009.

ADDRESSES: For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

The FAA issued a notice of proposed rulemaking (NPRM) to amend 14 CFR part 39 to include an AD that supersedes AD 87-16-06, amendment 39-5692 (52 FR 28241, July 29, 1987). The existing AD applies to certain Airbus Model A300 and A310 series airplanes. That NPRM was published in the Federal Register on April 1, 2009 (74 FR 14751). That NPRM proposed to continue to require replacement of the nose landing gear drag strut upper attachment pin. That NPRM also proposed to require revising the Airworthiness Limitations section (ALS) of the Instructions for Continued Airworthiness (ICA) to require additional life limits and/or replacements for certain main landing gear and nose landing gear components, and would also expand the applicability.

Comments

We provided the public the opportunity to participate in the development of this AD. We have considered the comments that have been received on the NPRM.

Request To Add Grace Period

TradeWinds Airlines requests that we add a “grace period” to the life limit placed on the nose landing gear (NLG) shock absorber bottom, part number (P/N) C62037-1, listed in Table 1 of the NPRM, as referenced in paragraph (h)(1)(i) of the NPRM. TradeWinds explains that this component was not listed in Chapter 5 of the Airbus A300 Airplane Maintenance Manual (AMM) and had no corresponding FAA AD issued against it. Therefore, for U.S. operators, there was never a requirement to track the life limit. TradeWinds suggests a grace period of the next NLG overhaul or restoration be added so this internal component can be replaced without unscheduled removal from the airplane.

We do not agree that it is necessary to add a grace period based on the operator's next overhaul or restoration. Maintenance schedules vary among operators; there is no assurance that the overhaul or restoration would occur within the maximum interval of time allowable for the affected airplanes to operate safely. However, under the provisions of paragraph (l) of this AD, we will consider requests for adjustments to the compliance time if data are submitted to substantiate that such an adjustment would provide an acceptable level of safety. We have not changed the AD in this regard.

Request To Clarify Purpose of Service Information Letter (SIL)

TradeWinds Airlines requests that we clarify the purpose of Airbus Service Information Letter (SIL) 32-118, Revision 02, dated October 24, 2007, as referenced in paragraph (j) of the NPRM. TradeWinds requests a note or some clarification to describe the use or application of the SIL as it pertains to the AD.

We agree with the request to clarify the purpose of the SIL. We have added Note 2 to the AD to include the following information from page 1 of the SIL:

Note 2: Airbus Service Information Letter 32-118, Revision 02, dated October 24, 2007, provides operators with guidance on the means to assign a conservative calculated life to parts whose history of accumulated landings is partial or unknown; and to select the limitations applicable to parts whose history of application details (aircraft type, aircraft model, weight variant, etc.) is partial or unknown.

Conclusion

We have carefully reviewed the available data, including the comments that have been received, and determined that air safety and the public interest require adopting the AD with the change described previously. We have determined that this change will neither increase the economic burden on any operator nor increase the scope of the AD.

Costs of Compliance

The following table provides the estimated costs for U.S. operators to comply with this AD.

Estimated Costs
Action | Work hours | Average labor rate per hour | Parts | Cost per airplane | Number of U.S.- registered airplanes | Fleet cost
Replacement (required by AD 87-16-06) | 7 | $80 | $3,300 | $3,860 | 94 | $362,840
Revision (new action) | 1 | 80 | 0 | 80 | 238 | 19,040

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-5692 (52 FR 28241, July 29, 1987) and by adding the following new airworthiness directive (AD):

2009-18-15 Airbus: Amendment 39-16011. Docket No. FAA-2009-0292; Directorate Identifier 2008-NM-011-AD.

Effective Date

(a) This AD becomes effective October 27, 2009.

Affected ADs

(b) This AD supersedes AD 87-16-06.

Applicability

(c) This AD applies to all Airbus Model A300, A310, and A300-600 series airplanes, certificated in any category.

Subject

(d) Air Transport Association (ATA) of America Code 32: Landing Gear.

Unsafe Condition

(e) This AD results from revisions to the Airworthiness Limitations section (ALS) of the Instructions for Continued Airworthiness (ICA) to include new or more restrictive life limits and/or replacements. We are issuing this AD to ensure the continued structural integrity of these airplanes.

Compliance

(f) You are responsible for having the actions required by this AD performed within the compliance times specified, unless the actions have already been done.

Note 1: This AD requires revisions to certain operator maintenance documents to include new replacements. Compliance with these inspections is required by 14 CFR 91.403(c). For airplanes that have been previously modified, altered, or repaired in the areas addressed by these replacements, the operator may not be able to accomplish the replacements described in the revisions. In this situation, to comply with 14 CFR 91.403(c), the operator must request approval for an alternative method of compliance according to paragraph (l) of this AD. The request should include a description of changes to the required replacements that will ensure the continued operational safety of the airplane.

Restatement of the Requirements of AD 87-16-06

(g) For Model A300 and A310 series airplanes: Prior to the accumulation of 16,000 landings, or within the next 2,000 landings after September 3, 1987 (the effective date of AD 87-16-06), whichever occurs later, replace the nose landing gear drag strut upper attachment pin in accordance with Airbus Service Bulletin A300-32-374, Revision 1, dated July 15, 1986 (applicable to Model A300 airplanes); or A310-32-2023, Revision 2, dated November 14, 1986 (applicable to Model A310 airplanes).

New Requirements of This AD

ALS Revision

(h) For Model A300, A310, and A300-600 series airplanes: Within 3 months after the effective date of this AD, revise the ALS of the ICA to incorporate the applicable document listed in paragraph (h)(1), (h)(2), or (h)(3) of this AD. Accomplishing the actions specified in the applicable document satisfies the requirements of paragraph A. of AD 84-02-04, amendment 39-4795.

(1) For Model A300 series airplanes: Incorporate the applicable document listed in paragraph (h)(1)(i) or (h)(1)(ii) of this AD.

(i) Section 05-10-00, Revision 28, dated February 27, 1998, of Chapter 05, “Service Life Limits and Maintenance Checks,” of the Airbus A300 Aircraft Maintenance Manual, except that the parts listed in Table 1 of this AD are subject to the life limits defined in the document listed in paragraph (h)(1)(ii) of this AD.

(ii) “Sub-part 1-2: Life Limits,” and “Sub-part 1-3: Demonstrated Fatigue Lives” of Part 1, “Safe Life Airworthiness Limitation Items,” dated September 6, 2007, of the Airbus A300 ALS.

Table 1—Parts Subject to the Life Limits Specified in the Document Identified in Paragraph (h)(1)(ii) of This AD
Part No. (P/N) | Part name
P/N C61643-2, P/N C61643-4, P/N C61643-5 | Main landing gear (MLG) shock absorber end fitting.
P/N A32210001205xx | Nose landing gear (NLG) pintle pin.
P/N C62037-1 | NLG shock absorber bottom.
P/N 196-0328-501 | Cross beam (Pratt & Whitney forward engine mount).

(2) For Model A310 series airplanes: Incorporate “Sub-part 1-2: Life Limits,” and “Sub-part 1-3: Demonstrated Fatigue Lives” of Part 1, “Safe Life Airworthiness Limitation Items,” dated December 21, 2006, of the Airbus A310 ALS.

(3) For Model A300-600 series airplanes: Incorporate “Sub-part 1-2: Life Limits,” and “Sub-part 1-3: Demonstrated Fatigue Lives” of Part 1, “Safe Life Airworthiness Limitation Items,” dated December 21, 2006, of the Airbus A300-600 ALS.

Initial Compliance Times and Repetitive Inspections

(i) Do the replacement at the applicable time specified in paragraph (i)(1) or (i)(2) of this AD, except as provided by paragraph (j) of this AD. The replacement must be done thereafter within the interval specified in the applicable document identified in paragraph (h)(1), (h)(2), or (h)(3) of this AD.

(1) For any life limitation/task that has been complied with before the effective date of this AD in accordance with the applicable document listed in paragraph (h)(1), (h)(2), or (h)(3) of this AD, or in accordance with paragraph (g) of this AD, use the last accomplishment of each limitation/task as a starting point for accomplishing each corresponding limitation/task required by this AD.

(2) For any life limitation/task that has not been complied with before the effective date of this AD in accordance with the applicable document listed in paragraphs (h)(1), (h)(2), and (h)(3) of this AD, or in accordance with paragraph (g) of this AD, the initial compliance time starts from the date of initial entry into service as defined in the applicable document.

Special Compliance Times

(j) For any airplane on which the history of accumulated landings is partial or unknown, or where the history of application details (airplane type, model, weight variant, etc.) is partial or unknown, with or without using the information in Airbus Service Information Letter 32-118, Revision 02, dated October 24, 2007: Parts listed in Figure 1 of this AD must be replaced at the associated compliance time. The replacement must be done thereafter at the interval specified in the applicable document(s) specified in paragraphs (h)(1), (h)(2), and (h)(3) of this AD.

Note 2: Airbus Service Information Letter 32-118, Revision 02, dated October 24, 2007, provides operators with guidance on the means to assign a conservative calculated life to parts whose history of accumulated landings is partial or unknown; and to select the limitations applicable to parts whose history of application details (aircraft type, aircraft model, weight variant, etc.) is partial or unknown.

BILLING CODE 4910-13-P

BILLING CODE 4910-13-C

Alternative Intervals or Limits

(k) Except as provided by paragraph (l) of this AD, after accomplishing the actions specified in paragraphs (h), (i), and (j) of this AD, no alternative replacements, replacement intervals, or limitations may be used.

Alternative Methods of Compliance (AMOCs)

(l)(1) The Manager, ANM-116, International Branch, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Related Information

(m) European Aviation Safety Agency (EASA) Airworthiness Directive 2007-0293, dated November 29, 2007, also addresses the subject of this AD.

Material Incorporated by Reference

(n) You must use the service information contained in Table 2 of this AD to do the actions required by this AD, unless the AD specifies otherwise.

Table 2—Material Incorporated by Reference
Document | Revision | Date
Section 05-10-00 of Chapter 05, “Service Life Limits and Maintenance Checks,” of the Airbus A300 Aircraft Maintenance Manual | 28 | February 27, 1998.
Airbus A300 Airworthiness Limitations Section, ALS Part 1, “Safe Life Airworthiness Limitations Items” | Original | September 6, 2007.
Airbus A300-600 Airworthiness Limitations Section, ALS Part 1, “Safe Life Airworthiness Limitations Items” | Original | December 21, 2006.
Airbus A310 Airworthiness Limitations Section, ALS Part 1, “Safe Life Airworthiness Limitation Items” | Original | December 21, 2006.
Airbus Service Bulletin A300-32-374 | 1 | July 15, 1986.
Airbus Service Bulletin A310-32-2023 | 2 | November 14, 1986.

Airbus Service Bulletin A300-32-374, Revision 1, dated July 15, 1986, has the following effective pages:

Page No. | Revision level shown on page | Date shown on page
1, 3-8, 11 | 1 | July 15, 1986.
2 | Original | April 16, 1986.

(Airbus Service Bulletin A300-32-374, Revision 1, dated July 15, 1986 does not contain pages 9 and 10.)

Airbus Service Bulletin A310-32-2023, Revision 2, dated November 14, 1986, has the following effective pages:

Page No. | Revision level shown on page | Date shown on page
1, 5-9 | 2 | November 14, 1986
2, 4 | 1 | July 15, 1986
3 | Original | April 16, 1986

Chapter 05 of Airbus A300 Aircraft Maintenance Manual has the following effective pages:

List of Effective Pages
Page title/description | Page No.(s) | Revision No. | Date shown on page(s)
AMM Title Page | None shown | None shown * | February 27, 1998.
Chapter 05 Record of Revisions | 1-2 | 28 | February 27, 1998.
Chapter 05 Effective Pages | 1-4 | None shown * | February 27, 1998.
Chapter 05 Table of Contents | 1-4 | None shown * | February 27, 1998.
Section 05-10-00 | 1 | None shown * | February 27, 1998.
* The revision number is indicated only in the Record of Revisions section of Chapter 05.

(The List of Effective Pages (LOEP) for Chapter 05 of the Airbus A300 Aircraft Maintenance Manual contains the following errors: Transmittal Letter page, page 4 of the LOEP and Table of Contents sections, page 2 of Subsection 05-00-01, page 1 of Subsection 05-11-11, and Subsection 05-10-00, are not listed in the LOEP; and the LOEP also does not specify a date for the Record of Revisions page. In addition, the LOEP identifies three pages for Subsection 05-11-00, Configuration 5; however, only one page exists. The LOEP identifies three pages for Subsection 05-11-00, Configuration 9; however, those pages do not exist.)

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on August 24, 2009.
Ali Bahrami,
Manager, Transport Airplane Directorate, Aircraft Certification Service.

[FR Doc. E9-21033 Filed 9-21-09; 8:45 am]

BILLING CODE 4910-13-P